ENVIRONMENTAL PROTECTION AGENCY

[FRL-6716-3]

Notice of Superfund Recycling Equity Act Stakeholders Public Meeting

AGENCY: Environmental Protection Agency (EPA).

ACTION: Notice of Public Meeting.

SUMMARY: The Environmental Protection Agency (EPA) will hold a public meeting to examine whether or not to issue guidance dealing with prospective (i.e., post-enactment) recycling transactions covered by the Superfund Recycling Equity Act (SREA). To address this question, EPA will hear views on whether such guidance is needed, what type of guidance might be needed, and what the content of any such guidance should be. More specifically, attendees will be given an opportunity to share their views with EPA on the issue of what constitutes “reasonable care” as contemplated by sections 127(c)(5), (6) of the SREA. Accordingly, EPA is seeking relevant factual information on standard practices in the recycling industry, quantity and quality of publicly available environmental compliance information, and information useful to the agency and industry to implement the reasonable care standard contemplated in the SREA. This notice identifies a contact person for registration, and includes information on the topic, place, date and time of the meeting.

DATES: The public meeting will be held on July 17, 2000, 8:30 a.m. to 5 p.m. If you would like to attend the meeting, you must notify the Agency by July 10, 2000. Any written comments you wish to submit, whether or not you attend the meeting, must be submitted as set forth below and before July 10, 2000.

ADDRESSES: The public meeting will be held at U.S. EPA Headquarters, Ariel Rios Building, 1200 Pennsylvania Avenue, N.W. (entrance on 12th Street N.W.), in the NETI Conference Room No. 6226, Washington, DC 20004.

FOR FURTHER INFORMATION CONTACT: Sherry Green, Environmental Protection Agency, Office of Site Remediation Enforcement, Subject: Recycling Meeting, 1200 Pennsylvania Avenue, NW, Mailcode 2272A, Washington, DC 20460, 202-564-4303, Fax 202-564-0461, or e-mail: green.sherry@epa.gov. Registration: there is no registration fee for this public meeting, but, to assure room capacity for all those attending, notice of your intention to attend must be received by July 10, 2000. Due to possible limitations on space in the meeting room, up to two participants per organization is requested, unless special arrangements are made with the Agency in advance of the meeting. All interested persons may give notice of their intention to attend via email to: green.sherry@epa.gov, Subject: Recycling Meeting, Fax 202-564-0461, or regular mail to the address noted above, and should provide the following information: Name, Affiliation (if applicable), Address, Phone, Fax, and Email address (if available). All timely comments, both oral and written, will be considered.

SUPPLEMENTARY INFORMATION:

I. Background

The Superfund Recycling Equity Act (SREA) was enacted on November 29, 1999, amending the Comprehensive Environmental Response, Compensation and Liability Act (CERCLA) 42 U.S.C. § 9601 et seq. SREA may also in some uses be referenced as the “D.C. Appropriations Act 2000, § 6001,” the “Consolidated Appropriations Act for FY 2000, § 6001,” or P.L. 106-113, Section 6001, and is codified at 42 U.S.C. § 9627. The purpose of this meeting is to listen to the views of all concerned on the issues raised by the SREA pertaining to post-enactment transactions, in particular, the issue of the reasonable care standard under sections 127(c)(5), (6) of the Act. Accordingly, the questions listed below have been provided to serve as the framework for the dialogue and information exchange at the meeting on July 17, 2000. To assure adequate time for all participants, oral remarks will be limited to seven minutes per individual or organization. Oral remarks may be supplemented with a written statement. All written statements (whether you plan to attend the meeting or not) must be received in electronic format by EPA by July 10, 2000 (seven days before the meeting). Written statements will be made available for public access at www.epa.gov/oeca/osre/recycle.html, once received by EPA. We encourage all persons planning to attend the meeting to read as many of these statements as have been posted before attending the meeting since it will inform the group dialogue. Copies of written statements are likely to be too voluminous to be provided by EPA at the meeting, so please bring your own copies if you intend to refer to them during the meeting. Following the presentations, if time permits, EPA will invite group discussion of the issues raised to further assist it in considering the questions to be addressed.

II. Questions To Be Addressed at the Public Meeting

(1) How does a generator of scrap material currently exercise reasonable care in determining whether a consuming facility has been in compliance with substantive provisions of Federal, State or local environmental laws?

(2) What factors does a generator of scrap material currently take into account when evaluating the compliance status of a consuming facility?

(3) What prevailing industrial practices are used when assessing a facility's compliance status?

(4) How much inquiry does a generator of scrap material generally believe is needed to be reasonably comfortable that it has sufficient information to make a decision about a consuming facility's compliance status?

(5) As part of the assessment of what constitutes sufficient information, how much weight should standard industrial practices or prior business relationships with a particular facility or company be given in determining an individual consuming facility's behavior and compliance status?

(6) How do the criteria contained in section 127(c)(6) regarding “reasonable care” shape or direct the type of inquiry that is necessary to determine that a consuming facility is in compliance with substantive provisions of Federal, State or local environmental laws?

(7) Under what circumstances should site visits be required?

(8) What compliance information is available from state and local authorities? From other authorities?

(9) How often/frequently should generators be required to re-check the compliance status of consuming facilities?

(10) Under what circumstances is it appropriate/sufficient to rely on a consuming facility's checklist or self-certification to satisfy the “reasonable care” standard?

Dated: June 8, 2000.
Barry Breen,
Office Director, Office of Site Remediation Enforcement.

[FR Doc. 00-15029 Filed 6-13-00; 8:45 am]

BILLING CODE 6560-50-P